ARCHITECTURAL AND TRANSPORTATION BARRIERS COMPLIANCE BOARD

36 CFR Ch. XI

Unified Agenda of Federal Regulatory and Deregulatory Actions

AGENCY: Architectural and Transportation Barriers Compliance Board.

ACTION: Semiannual regulatory agenda.

SUMMARY: The Architectural and Transportation Barriers Compliance Board submits the following agenda of proposed regulatory activities, which may be conducted by the agency during the next 12 months. This regulatory agenda may be revised by the agency during the coming months as a result of action taken by the Board.

ADDRESSES: Architectural and Transportation Barriers Compliance Board, 1331 F Street NW., Suite 1000, Washington, DC 20004-1111.

FOR FURTHER INFORMATION CONTACT: For information concerning Board regulations and proposed actions, contact Gretchen Jacobs, General Counsel, (202) 272-0040 (voice) or (202) 272-0062 (TTY).

Gretchen Jacobs,
General Counsel.

Architectural and Transportation Barriers Compliance Board—Final Rule Stage
Sequence No. | Title | Regulation Identifier No.
209 | Accessibility Guidelines for Pedestrian Facilities in the Public Right-of-Way | 3014-AA26

Architectural and Transportation Barriers Compliance Board—Long-Term Actions
Sequence No. | Title | Regulation Identifier No.
210 | Americans with Disabilities Act (ADA) Accessibility Guidelines for Passenger Vessels | 3014-AA11

ARCHITECTURAL AND TRANSPORTATION BARRIERS COMPLIANCE BOARD (ATBCB)

Final Rule Stage

209. Accessibility Guidelines for Pedestrian Facilities in the Public Right-of-Way

Legal Authority: 42 U.S.C. 12204, Americans With Disabilities Act; 29 U.S.C. 792, Rehabilitation Act

Abstract: This rulemaking would establish accessibility guidelines to ensure that sidewalks and pedestrian facilities in the public right-of-way are accessible to and usable by individuals with disabilities. A Supplemental Notice of Proposed Rulemaking consolidated this rulemaking with RIN 3014-AA41; accessibility guidelines for shared use paths (which are multi-use paths designed primarily for use by bicyclists and pedestrians—including persons with disabilities—for transportation and recreation purposes). The U.S. Department of Justice, U.S. Department of Transportation, and other Federal agencies are expected to adopt the accessibility guidelines for pedestrian facilities in the public right-of-way and for shared use paths, as enforceable standards in separate rulemakings for the construction and alteration of facilities covered by the Americans With Disabilities Act, section 504 of the Rehabilitation Act, and the Architectural Barriers Act.

Timetable:

Action | Date | FR Cite
Notice of Intent to Form Advisory Committee | 08/12/99 | 64 FR 43980
Notice of Appointment of Advisory Committee Members | 10/20/99 | 64 FR 56482
Availability of Draft Guidelines | 06/17/02 | 67 FR 41206
Availability of Draft Guidelines | 11/23/05 | 70 FR 70734
NPRM | 07/26/11 | 76 FR 44664
NPRM Comment Period End | 11/23/11
Notice Reopening Comment Period | 12/05/11 | 76 FR 75844
NPRM Comment Period End | 02/02/12
Second NPRM | 02/13/13 | 78 FR 10110
Second NPRM Comment Period End | 05/14/13
Final Action | 04/00/16

Regulatory Flexibility Analysis Required: Yes.

Agency Contact: Gretchen Jacobs, General Counsel, Architectural and Transportation Barriers Compliance Board, 1331 F Street NW., Suite 1000, Washington, DC 20004-1111, Phone: 202 272-0040, TDD Phone: 202 272-0062, Fax: 202 272-0081, Email: jacobs@access-board.gov.

RIN: 3014-AA26

ARCHITECTURAL AND TRANSPORTATION BARRIERS COMPLIANCE BOARD (ATBCB)

Long-Term Actions

210. Americans With Disabilities Act (ADA) Accessibility Guidelines for Passenger Vessels

Legal Authority: 42 U.S.C. 12204, Americans with Disabilities Act of 1990

Abstract: This rulemaking would establish accessibility guidelines to ensure that newly constructed and altered passenger vessels covered by the Americans with Disabilities Act (ADA) are accessible to and usable by individuals with disabilities. The U.S. Department of Transportation and U.S. Department of Justice are expected to adopt the guidelines as enforceable standards in separate rulemakings for the construction and alteration of passenger vessels covered by the ADA.

Timetable:

Action | Date | FR Cite
Notice of Intent to Establish Advisory Committee | 03/30/98 | 63 FR 15175
Establishment of Advisory Committee | 08/12/98 | 63 FR 43136
Availability of Draft Guidelines | 11/26/04 | 69 FR 69244
ANPRM | 11/26/04 | 69 FR 69246
Comment Period Extended | 03/22/05 | 70 FR 14435
ANPRM Comment Period End | 07/28/05
Availability of Draft Guidelines | 07/07/06 | 71 FR 38563
Notice of Intent to Establish Advisory Committee | 06/25/07 | 72 FR 34653
Establishment of Advisory Committee | 08/13/07 | 72 FR 45200
NPRM | 06/25/13 | 78 FR 38102
NPRM Comment Period Extended | 08/13/13 | 78 FR 49248
NPRM Comment Period End | 01/24/14
Final Action | 09/00/16

Regulatory Flexibility Analysis Required: Yes.

Agency Contact: Gretchen Jacobs, General Counsel, Architectural and Transportation Barriers Compliance Board, 1331 F Street NW., Suite 1000, Washington, DC 20004-1111, Phone: 202 272-0040, TDD Phone: 202 272-0062, Fax: 202 272-0081, Email: jacobs@access-board.gov.

RIN: 3014-AA11

[FR Doc. 2015-14367 Filed 6-17-15; 8:45 am]

BILLING CODE 8150-01-P